DEPARTMENT OF ENERGY

Secretary of Energy Advisory Board

AGENCY: Office of the Secretary, Department of Energy.

ACTION: Notice of open meeting: correction.

SUMMARY: On February 10, 2019, the Department of Energy published a notice of open meeting announcing a meeting on March 12, 2020, of the Secretary of Energy Advisory Board in Houston, Texas. This document makes a correction to that notice.

FOR FURTHER INFORMATION CONTACT: Kurt Heckman, SEAB Designated Federal Officer, U.S. Department of Energy, 1000 Independence Avenue SW, Washington, DC 20585; Phone: (202) 586-1212; email: seab@hq.doe.gov.

Corrections

In the Federal Register of February 10, 2020, in FR Doc. 2020-02555, on page 7541, please make the following correction:

In that notice under ADDRESSES, third column, first paragraph, the meeting address has been changed. The original address was Rush Conference Center, Rice University, James A. Baker III Hall, 6100 Main Street, Houston, Texas 77005. The new address is James V. Forrestal Building, 1000 Independence Ave. SW, Washington, DC 20585.

Reason for Correction: The change in venue is due to travel concerns associated with the coronavirus outbreak that cause the cancellation of the CERAWeek event in Houston, TX.

Signed in Washington, DC, on March 2, 2020.
LaTanya Butler,
Deputy Committee Management Officer.

[FR Doc. 2020-04572 Filed 3-5-20; 8:45 am]

BILLING CODE 6450-01-P